DEPARTMENT OF ENERGY

Federal Energy Regulatory Commission

[Docket No. EC03-121-001, et al.]

Hardee Power Partners, Limited., et al.; Electric Rate and Corporate Filings

September 4, 2003.

The following filings have been made with the Commission. The filings are listed in ascending order within each docket classification.

1. Hardee Power Partners, Limited, Invenergy Investment Company LLC, GTCR Fund VIII, L.P., GTCR Fund VIII/B, L.P., Hardee GP LLC, Hardee LP LLC

[Docket No. EC03-121-001]

Take notice that on August 29, 2003, Hardee Power Partners, Limited (Hardee Power), Invenergy Investment Company LLC, GTCR Fund VIII, L.P., GTCR Fund VIII/B, L.P., Hardee GP LLC and Hardee LP LLC (the Applicants) filed with the Federal Energy Regulatory Commission (Commission) a supplement to their application filed pursuant to section 203 of the Federal Power Act on August 8, 2003, for authorization of the transfer of 100% of the partnership interests in Hardee Power to Hardee GP LLC and Hardee LP LLC (the Acquirers) so that upon consummation of the proposed transaction, the Acquirers will own 100% of Hardee Power. Applicants request confidential treatment for the documents contained in Confidential Exhibit I and Confidential Attachment 1 of the supplement.

Comment Date: September 15, 2003.

2. Wisconsin Power and Light Company

[Docket No. EC03-133-000]

Take notice that on September 2, 2003, Wisconsin Power and Light Company tendered for filing an application for authorization under section 203 of the Federal Power Act, to sell certain substation equipment to the City of Wisconsin Rapids Water Works and Lighting Commission.

Comment Date: September 23, 2003.

3. Allegheny Energy Supply Company, LLC

[Docket No. ER00-814-002]

Take notice that on August 29, 2003, Allegheny Energy Supply Company, LLC (AE Supply) tendered for filing, a change in status under AE Supply's market-based rate authority to reflect the commercial operation of three new 180 MW generating units located in Springdale, Pennsylvania. Comment Date: September 19, 2003.

4. Midwest Independent Transmission System Operator, Inc.

[Docket No. ER03-986-001]

Take notice that on August 29, 2003, Midwest Independent Transmission System Operator, Inc. (Midwest ISO) tendered for filing an amendment to its June 27, 2003 filing in Docket No. ER03-986-000 in compliance with the Commission's deficiency letter request dated August 14, 2003.

The Midwest ISO states it has served copies of its filing on all affected customers. Midwest ISO also states that it has electronically served a copy of this filing, without attachments, upon all Midwest ISO Members, Member representatives of Transmission Owners and Non-Transmission Owners, the Midwest ISO Advisory Committee participants, as well as all state commissions within the region. Midwest states that the filing has been electronically posted on the Midwest ISO's Web site at http://www.midwestiso.org under the heading “Filings to FERC” for other interested parties in this matter. The Midwest ISO will provide hard copies to any interested parties upon request.

Comment Date: September 19, 2003.

5. Sierra Pacific Power Company

[Docket No. ER03-1264-000]

Take notice that on August 29, 2003, Sierra Pacific Power Company (Sierra Pacific) tendered for filing in accordance with 18 CFR part 35 of the Commission's Rules and Regulations, a Notice of Cancellation of Service Agreement No. 107, Interconnection and Operation Agreement between Sierra Pacific Power Company and Duke Energy Washoe, LLC. Sierra Pacific has requested an effective date for the cancellation of July 30, 2003.

Sierra states that this Notice of Cancellation is filed pursuant to the terms, and finalization of adjustments, appropriate to Service Agreement No. 107. Sierra also states that copies of the filing were served upon Duke Energy Washoe, LLC, and the Public Utilities Commission of Nevada.

Comment Date: September 19, 2003.

6. Pelican Energy Management Inc.

[Docket No. ER03-1265-000]

Take notice that on August 29, 2003, Pelican Energy Management Inc. (Pelican Energy) tendered for filing a Notice of Cancellation of its market-based rate tariff, Pelican Energy Management Inc., Rate Schedule FERC No. 1. Pelican Energy states that this authorization was issued to them on June 22, 1998, in Docket No. ER98-3084-000. Pelican Energy states that it has never entered into any power sales or power purchase agreements or transactions pursuant to the tariff.

Comment Date: September 19, 2003.

7. Burlington Resources Trading Inc.

[Docket No. ER03-1266-000]

Take notice that on August 29, 2003, Burlington Resources Trading Inc. (Burlington Resources) tendered for filing a Notice of Cancellation of its market-based rate tariff, Burling Resources Trading Inc., Rate Schedule FERC No. 1.

Burlington Resources states that its market-based authorization was issued on November 14, 1996, in Docket No. ER96-3112-000. Burlington Resources states that it has never entered into any power sales or power purchase agreements or transactions pursuant to the tariff.

Comment Date: September 19, 2003.

8. Niagara Mohawk Power Corporation, A National Grid Company

[Docket No. ER03-1267-000]

Take notice that on August 29, 2003, Niagara Mohawk Power Corporation, a National Grid Company (Niagara Mohawk) tendered for filing pursuant to Section 35.15 of the Federal Energy Regulatory Commission's (Commission) regulations, 18 CFR 35.15, a Notice of Cancellation of Rate Schedule No. 138. Niagara Mohawk requests that the Notice of Cancellation be deemed effective as of November 1, 2003.

Niagara Mohawk states it has served copies of the Notice of Cancellation upon the customer receiving service under Rate Schedule No. 138, the Power Authority of the State of New York, as well as upon the New York Independent System Operator and the New York Public Service Commission.

Comment Date: September 19, 2003.

9. Niagara Mohawk Power Corporation, A National Grid Company

[Docket No. ER03-1268-000]

Take notice that on August 29, 2003, Niagara Mohawk Power Corporation, a National Grid Company (Niagara Mohawk) tendered for filing pursuant to Section 35.15 of the Federal Energy Regulatory Commission's (Commission) regulations, 18 CFR 35.15 (2003), a Notice of Cancellation of Service Agreement No. 139 under Niagara Mohawk's grandfathered Open Access Transmission Tariff, FERC Tariff Original Vol. No. 3. Niagara Mohawk requests that the Notice of Cancellation be deemed effective as of November 1, 2003.

Niagara Mohawk states it has served copies of the Notice of Cancellation upon the customer receiving service under Service Agreement No. 139, Allegheny Electric Cooperative, Inc., and upon the Power Authority of the State of New York, the New York Independent System Operator, and the New York Public Service Commission.

Comment Date: September 19, 2003.

10. Niagara Mohawk Power Corporation, A National Grid Company

[Docket No. ER03-1269-000]

Take notice that on August 29, 2003, Niagara Mohawk Power Corporation, a National Grid Company (Niagara Mohawk) tendered for filing pursuant to Section 35.15 of the Federal Energy Regulatory Commission's (Commission) regulations, 18 CFR. 35.15, a Notice of Cancellation of Rate Schedule No. 190. Niagara Mohawk requests that the Notice of Cancellation be deemed effective as of November 1, 2003.

Niagara Mohawk states it has served copies of the Notice of Cancellation upon the customer receiving service under Rate Schedule No. 190, the Village of Bergen, New York, as well as upon the New York Independent System Operator and the New York Public Service Commission.

Comment Date: September 19, 2003.

11. Ameren Services Company

[Docket No. ER03-1270-000]

Take notice that on August 29, 2003, Ameren Services Company (Ameren) filed an unexecuted Network Integration Transmission Service (NITS) Agreement and unexecuted Network Operating Agreement (NOA) between Ameren and Soyland Power Cooperative, Inc. (Soyland) with the Commission. Ameren states that the filing proposes modifications to the unexecuted NITS Agreement and NOA accepted by the Commission in Docket No. ER03-464. Ameren seeks an effective date of September 1, 2003.

Ameren states it has served a copy of this filing on Soyland.

Comment Date: September 19, 2003.

12. Aquila, Inc.

[Docket No. ER03-1271-000]

Take notice that on August 29, 2003, Aquila, Inc. d/b/a/ Aquila Networks “ MPS (Aquila-MPS) submitted for filing a Generator Balancing Service Tariff and associated pro forma service agreement pursuant to 18 CFR 35.12. Aquila states that pursuant to the GBS Tariff, Aquila-MPS will offer generator balancing service to entities which either own, control, or schedule the output for an independent generating facility interconnected with the transmission system of Aquila-MPS to account for unintentional differences between the scheduled generation and the actual generation associated with each independent generation facility. Aquila has requested that the initial tariff be made effective as of November 1, 2003.

Comment Date: September 19, 2003.

13. Entergy Services, Inc.

[Docket No. ER03-1272-000]

Take notice that on August 29, 2003, Entergy Services, Inc., on behalf of Entergy Arkansas, Inc., Entergy Gulf States, Inc., Entergy Louisiana, Inc., Entergy Mississippi, Inc., and Entergy New Orleans, Inc., (collectively, Entergy) filed proposed revisions to the Entergy Open Access Transmission Tariff, FERC Electric Tariff Second Revised Volume No. 3, designed to implement an Available Flowgate Capability process for evaluating short-term transmission service requests. Entergy requests an effective date of April 1, 2004.

Comment Date: September 19, 2003.

14. Entergy Services, Inc.

[Docket No. ER03-1273-000]

Take notice that on August 29, 2003, Entergy Services, Inc., on behalf of Entergy New Orleans, Inc. (Entergy New Orleans), tendered for filing of a Notice of Termination of the Interconnection and Operating Agreement and Generator Imbalance Agreement between Entergy New Orleans and Duke Energy Orleans, LLC.

Comment Date: September 19, 2003.

15. Boston Edison Company

[Docket No. ER03-1274-000]

Take notice that on August 29, 2003, Boston Edison Company (BECo), tendered for filing pursuant to Commission Order No. 618 and Section 205 of the Federal Power Act (FPA) proposed changes in its transmission plant per book depreciation rates. BECo states that it proposes to make the depreciation changes effective on its books as of November 1, 2003, which is the requested effective date for this filing. BECo also states that if the Commission elects to suspend the filing for one-day, BECo requests an October 31, 2003 effective date so that the depreciation rate changes would be reflected on its books as of November 1, 2003.

BECo states that copies of the filing were served upon the public utility's jurisdictional customers, and the Massachusetts Department of Telecommunications and Energy.

Comment Date: September 19, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-23608 Filed 9-15-03; 8:45 am]

BILLING CODE 6717-01-P